DEPARTMENT OF THE INTERIOR

Bureau of Land Management

DEPARTMENT OF AGRICULTURE

U.S. Forest Service

[LLMTC0400000 L51010000.ER0000 LVRWE0420000]

Notice of Availability of a Draft Environmental Impact Statement for the Dewey Conveyor Project, Custer County, SD

AGENCIES: Bureau of Land Management, Interior (BLM); and United States Forest Service, Agriculture (USFS).

ACTION: Notice of availability.

SUMMARY: In accordance with section 102 of the National Environmental Policy Act of 1969, the BLM and the USFS have jointly prepared a Draft Environmental Impact Statement (DEIS) to analyze the Dewey Conveyor Project, Custer County, South Dakota, and by this Notice are announcing the opening of the comment period.

DATES: To ensure that your written comments on the Dewey Conveyor Project DEIS will be considered, the BLM or USFS must receive them by September 14, 2009, which is 45 days after July 31, 2009, the date the Environmental Protection Agency (EPA) published its Notice of Availability in the Federal Register [74 FR 38187]. The BLM and the USFS will announce future meetings or hearings and any other public involvement activities at least 15 days in advance through public notices, media news releases, and/or mailings.

ADDRESSES: You may submit comments by any of the following methods:

• Web site: http://www.blm.gov/mt/st/en/fo/south_dakota_field.html.

• E-mail: Marian_Atkins@blm.gov. Include Docket number SDM-96415 in the subject line of the message.

• Fax: (605) 892-7015.

• Mail or hand delivery: Marian Atkins, South Dakota Field Manager, Bureau of Land Management, 310 Roundup Street, Belle Fourche, South Dakota 57717.

Copies of the Dewey Conveyor Project DEIS are available at the BLM State Office located at 5001 Southgate Drive, Billings, Montana, and at the South Dakota Field Office located at 310 Roundup Street, Belle Fourche, South Dakota. Electronic copies in pdf format are available on CD-ROM and may be obtained by contacting Marian Atkins of BLM in Belle Fourche, South Dakota, at the address above. A copy of the Draft EIS is also available for review via the Agency Web site: http://www.blm.gov/mt/st/en/fo/south_dakota_field.html.

FOR FURTHER INFORMATION CONTACT: Marian Atkins, South Dakota Field Manager, Bureau of Land Management, 310 Roundup Street, Belle Fourche, South Dakota 57717; (605) 892-7000; Marian_Atkins@blm.gov; or Laura Burns, FS Lands Program Manager, Hell Canyon District, Black Hills National Forest, 330 Mount Rushmore Road, Custer, South Dakota 57730; (605) 673-4853; lburns@fs.fed.us.

Or visit the BLM's Web site and access the Dewey Conveyor Project information at the following link http://www.blm.gov/mt/st/en/fo/south_dakota_field.html.

SUPPLEMENTARY INFORMATION:

GCC Dacotah, Inc., has located a limestone deposit several miles north of the town of Dewey, South Dakota, in a geologically favorable area where the limestone lies at, or close to, the surface, making mining economically feasible. The nearby town of Dewey is located along an existing rail transportation corridor.

The surface of the land currently proposed for mining is mostly private property, largely owned by GCC Dacotah, Inc. Within the area proposed for mining, all of the mineral rights are controlled by GCC Dacotah, Inc., either by direct ownership, leasing of privately-owned lands, or through the staking of mining claims on lands underlain by federally-owned minerals. GCC Dacotah, Inc., has a license to mine limestone in the State of South Dakota issued by the South Dakota Department of Environment and Natural Resources.

The Dewey Conveyor Project was proposed by GCC Dacotah, Inc., as a means to transport limestone from the future quarry location to a rail load-out facility near Dewey. GCC Dacotah, Inc., has submitted an Application for Transportation and Utility Systems and Facilities on Federal Lands. If the application is approved, a special use permit would be required from the USFS and a right-of-way (ROW) grant would be required from the BLM for the conveyor to cross Federal lands. The BLM and the USFS have prepared this DEIS to consider the effects of the proposed action to permit a transportation facility on Federal lands.

On October 2, 2007, the BLM published a Notice of Intent (NOI) to prepare an environmental impact statement in the Federal Register (72 FR 56083). Publication of the NOI began a 60-day public comment period on the scope of the EIS. The comment period was further extended to January 11, 2008, to allow for additional project-related comments. The BLM provided a Web site with project information that also described the various methods of providing public comment on the scope of the proposed action, including an e-mail address for comments to be sent electronically.

The BLM and USFS scheduled four public meetings in towns near the project area to facilitate information exchange and to gather public comments regarding the scope of the proposed Dewey Conveyor Project. A total of 51 attendees signed in voluntarily at meetings held in Edgemont, South Dakota, on November 5, 2007; Custer, South Dakota, on November 6, 2007; Newcastle, Wyoming, on November 7, 2007; and Dewey, South Dakota, on December 3, 2007.

The public meetings used an “open house” format. Information on the project was provided on poster boards showing the project location (including maps), a list of preliminary issues identified by the agencies, and photographic simulations of the proposed conveyor belt. The public scoping comments mainly addressed the appearance of the covered elevated conveyor belt and concerns about the increased use of the county road.

The BLM also contracted with Mr. Donovin Sprague, a member of the federally-recognized Minnicoujou Lakota Tribe, to conduct interviews with tribal members on their interest and concerns in the proposed Dewey Conveyor Project.

The BLM and USFS have jointly prepared a Draft EIS for the Dewey Conveyor Project. The DEIS considers four alternatives. Alternative A is the Proposed Action, which includes a 6.6 mile long, above-ground, enclosed conveyor system beginning at the quarry and terminating at a new railroad load-out facility. The route would cross 1.5 miles of the Black Hills National Forest and 1.0 mile of public land administered by the BLM.

Alternative B is the No Action Alternative. Under the No Action alternative, the proposed action to grant a ROW or issue a special use permit authorizing construction of a conveyor system would not be approved. The analysis for this alternative assumes GCC Dacotah, Inc., would not choose to haul limestone in trucks over the existing Dewey County Road.

Alternative C is an alternative to the proposed action and involves hauling limestone by truck from the quarry to the proposed load-out facility using an improved Dewey County road. Public safety concerns call for the county road to be widened and straightened over approximately 7.2 miles. Widening and straightening the county road where it crosses Federal lands would require a special use permit and a right-of-way (ROW) grant from the USFS and BLM.

Alternative D calls for the construction of another road generally following the route of the proposed conveyor that would only be used for hauling limestone by truck and eliminate the potential visual impact from the proposed conveyor. This would allow for local traffic to be largely separated from the hauling traffic. Approximately 1.4 miles of the existing county road would need to be straightened and widened over the pass that crosses the Elk Mountains on the National Forest. Both a ROW grant and a special use permit would be required for new road construction across Federal lands. The BLM and the USFS will decide whether or not to approve the Application for Transportation and Utility Systems and Facilities on Federal Lands and grant a 100-foot-wide ROW for a conveyor crossing and a special use permit or some alternative thereto.

The BLM and the USFS will also decide what stipulations or mitigation will be attached to any ROW grant or special use permit. Mining of the limestone resource to be produced and transported to a proposed rail load-out facility near Dewey, either by the proposed conveyor belt or one of the trucking action alternatives haul routes, is considered by the agencies in the DEIS.

Based on public scoping comments and subsequent analysis in the DEIS, the BLM and the USFS have identified Alternative A, the Proposed Action, as the agencies' preferred alternative.

Please note that public comments and information submitted including names, street addresses, and e-mail addresses of respondents will be available for public review and disclosure at the above addresses during regular business hours (8 a.m. to 4 p.m.), Monday through Friday, except holidays.

Before including your address, phone number, e-mail address, or other personal identifying information in your comment, you should be aware that your entire comment—including your personal identifying information—may be made publicly available at any time. While you can ask us in your comment to withhold your personal identifying information from public review, we cannot guarantee that we will be able to do so.

Marian M. Atkins,
Field Manager, South Dakota Field Manager.
Craig Bobzien,
Forest Supervisor, Black Hills National Forest.

[FR Doc. E9-19520 Filed 8-13-09; 8:45 am]

BILLING CODE 4310-DN-P